DEPARTMENT OF AGRICULTURE

Forest Service

Colorado Recreation Resource Advisory Committee Meeting

AGENCY: Rocky Mountain Region, Forest Service, USDA.

ACTION: Notice of meeting.

SUMMARY: The Colorado Recreation Resource Advisory Committee will tentatively meet in Glenwood Springs, CO. The purpose of the meeting is to review proposals for a standard amenity fee area change and new fee projects. These fee proposals will include new rentals for Fitton and Off Cow Camp cabins located on the Rio Grande National Forest and an area change at East Maroon Wilderness Portal, West Maroon Wilderness Portal and Maroon Lake on the White River National Forest. Proposals, updates, and other information can be found on the Colorado Recreation Resource Advisory Committee Web site at: http://www.fs.usda.gov/goto/r2/rac-colorado.

DATES: The meeting will be held June 5, 2013 from 8 a.m.-5 p.m. This meeting will only be held if a quorum is present.

ADDRESSES: The meeting will be held at the Glenwood Suites, 2625 Gilstrap Court, Glenwood Springs, CO 81601. Send written comments to Jim Bedwell, Designated Federal Officer, 740 Simms Street Golden, CO 80401 or jbedwell@fs.fed.us.

FOR FURTHER INFORMATION CONTACT: Jane Leche, Colorado Recreation Resource Advisory Committee Coordinator, at 303-275-5349 or jleche@fs.fed.us.

SUPPLEMENTARY INFORMATION: The meeting is open to the public. Committee discussion is limited to Forest Service staff and Committee members. However, persons who wish to bring recreation fee matters to the attention of the Committee may file written statements with the Committee Coordinator before or after the meeting. A public input session will be provided at the meeting and individuals who made written requests by May 29, 2013 will have the opportunity to address the Committee at the meeting. Meeting agenda and status can be found at: http://www.fs.usda.gov/goto/r2/rac-colorado.

The Recreation RAC is authorized by the Federal Land Recreation Enhancement Act, which was signed into law by President Bush in December 2004.

Dated: May 14, 2013.
Craig Bobzien,
Acting Deputy Regional Forester, Operations, Rocky Mountain Region.

[FR Doc. 2013-11906 Filed 5-17-13; 8:45 am]

BILLING CODE 3410-11-P